NUCLEAR REGULATORY COMMISSION

[Docket No. 70-0925]

Notice of Availability of Environmental Assessment and Finding of No Significant Impact for License Amendment for Kerr McGee Cimarron Corporation Former Fuel Fabrication Facility in Crescent, OK

AGENCY: Nuclear Regulatory Commission.

ACTION: Notice of availability.

FOR FURTHER INFORMATION CONTACT: Ken Kalman, Project Manager, Decommissioning Directorate, Division of Waste Management and Environmental Protection, Office of Nuclear Material Safety and Safeguards, U.S. Nuclear Regulatory Commission, Washington, DC 20555. Telephone: (301) 415-6664; fax number: (301) 415-5398 e-mail: klk@nrc.gov.

SUPPLEMENTARY INFORMATION:

I. Introduction

The Nuclear Regulatory Commission (NRC) is considering amending Material License No. SNM-928 issued to Kerr McGee Cimarron Corporation Cimarron or (the licensee), to authorize the deletion of License Condition 22 and revisions to License Conditions 23 and 27e of the license for its former fuel fabrication facility in Crescent, Oklahoma. NRC has prepared an Environmental Assessment (EA) in support of this amendment in accordance with the requirements of 10 CFR part 51. Based on the EA, the NRC has concluded that a Finding of No Significant Impact (FONSI) is appropriate. The amendment will be issued following the publication of this Notice.

II. EA Summary

The purpose of the proposed amendment is to authorize revisions to the license for the licensee's former fuel fabrication facility. Specifically, License Condition 22 will be deleted, as all requirements of this condition have been completed. License Conditions 23 and 27e will be revised. The actions required by these license conditions were addressed in the EA for approval of Cimarron's Decommissioning Plan (DP). That EA is summarized in the Federal Register notice of the Finding of No Significant Impact published on August 12, 1999, (64 FR 44059).

The licensee requested that License Condition 22 be deleted from the license, as the specific requirements of this license condition had been completed. License Condition 22 authorizes the licensee to breach the berms, close the two East and West Sanitary lagoons in Subarea L, and backfill the former burial ground in Subarea F. Cimarron backfilled the two sanitary lagoons in 1993. NRC staff reviewed the licensee's request and an NRC confirmatory survey of Subarea L demonstrated that all soil samples met the NRC's release criteria of License Condition 27 of Cimarron's license (SNM-928) and the regulatory limits for unrestricted use. The staff determined that all work addressed in License Condition 22 has been completed and that all the requirements of this condition have been met. Therefore, the NRC staff concluded that this condition can be deleted from the license, and will not have a significant effect on the quality of the human environment.

The licensee also requested that License Condition 23 be revised to reflect completion of some of the decommissioning activities identified in this condition. License Condition 23 authorizes the licensee to dispose of low-enriched uranium contaminated soil in an on-site burial cell in Subarea N. The licensee stated that all requirements in this license condition have been completed except for the requirement to “periodically monitor the disposal area for subsidence, erosion, and status of the vegetative cover for at least five years, and promptly repair any problems noted.” The NRC staff conducted a confirmatory survey of the burial cell in Subarea N. The staff determined that the buried cell had been completed in accordance with License Condition 23. All measurements were below the release criteria of Cimarron's license (SNM-928) and the regulatory limits. The NRC staff has reviewed the licensee's request and determined that the licensee has met all of the requirements of License Condition 23, except for the last two sentences of License Condition 23d. This license condition will be revised and the last two sentences will become License Condition 23a. The NRC staff has concluded that this revision to the license will not have a significant impact on the quality of the human environment, because the revision is only deleting protective actions that have already been completed.

License Condition 27e authorizes the licensee to make certain changes to the DP or Radiation Protection Plan (RPP) and associated procedures without prior NRC approval provided that those changes meet the specific criteria stated in License Condition 27e. The licensee requested that License Condition 27e be revised so that only changes to the facility or process, tests, and experiments described in the DP or the RPP are required to be reviewed by the As Low As Reasonably Achievable (ALARA) Committee. In addition, the licensee requested that the license condition be revised so changes to the associated radiation protection procedures would only require review and approval by the Radiation Safety Officer (RSO). The NRC staff has reviewed this request and found that the requested amendment to License Condition 27e should be granted. This proposed change to the license will have not have a significant effect on the quality of the human environment.

III. Finding of No Significant Impact

Based upon the analysis contained in the EA, NRC staff concludes that the proposed action will not have a significant effect on the quality of the human environment, because it is only deleting license requirements that have been completed and making changes to a License Condition 27e, which relates to approval of changes to the procedures associated with the Decommissioning Plan or Radiation Protection Procedures. Accordingly, the staff and has determined that preparation of an environmental impact statement is not warranted.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: Environmental Assessment for License Amendment 19 of Cimarron Corporations License (SNM-928) Regarding License Conditions 22, 23, and 27e (ML052060071). If you do not have access to ADAMS or if there are problems in accessing the documents located in ADAMS, contact the NRC's Public Document Room (PDR) Reference staff at 1-800-397-4209, (301) 415-4737, or by e-mail to pdr@nrc.gov.

These documents may also be viewed electronically on the public computers located at the NRC's PDR, O-1-F21, One White Flint North, 11555 Rockville Pike, Rockville, MD 20852. The PDR reproduction contractor will copy documents for a fee.

Dated at Rockville, Maryland, this 27th day of September, 2005.
For the Nuclear Regulatory Commission.
Daniel M. Gillen,
Deputy Director, Decommissioning Directorate Division of Waste Management and Environmental Protection, Office of Nuclear Material Safety and Safeguards.

[FR Doc. E5-5357 Filed 9-30-05; 8:45 am]

BILLING CODE 7590-01-P